DEPARTMENT OF THE INTERIOR

National Park Service

[NPS-WASO-NAGPRA-NPS0035669; PPWOCRADN0-PCU00RP14.R50000]

Notice of Inventory Completion: Lindsay Wildlife Museum, Walnut Creek, CA

AGENCY: National Park Service, Interior.

ACTION: Notice.

SUMMARY: In accordance with the Native American Graves Protection and Repatriation Act (NAGPRA), Lindsay Wildlife Museum has completed an inventory of human remains and has determined that there is no cultural affiliation between the human remains and any Indian Tribe. The human remains were removed from an unknown location but were likely removed from in or around Walnut Creek, Contra Costa County, CA.

DATES: Disposition of the human remains in this notice may occur on or after May 17, 2023.

ADDRESSES: Christina Schwandt, Curator of Education, Lindsay Wildlife Museum, 1931 First Avenue, Walnut Creek, CA 94530, telephone (925) 627-2913, email cschwandt@lindsaywildlife.org.

SUPPLEMENTARY INFORMATION: This notice is published as part of the National Park Service's administrative responsibilities under NAGPRA. The determinations in this notice are the sole responsibility of Lindsay Wildlife Museum. The National Park Service is not responsible for the determinations in this notice. Additional information on the determinations in this notice, including the results of consultation, can be found in the inventory or related records held by Lindsay Wildlife Museum.

Description

Human remains representing, at minimum, four individuals were removed from unknown location(s). These partial human remains were at the Lindsay Wildlife Collection before 1965 when the museum started keeping records for its collection. The Lindsay Wildlife Collection started as a private collection by Alexander “Sandy” Lindsay to share his curiosity and passion for the natural world with the people of Walnut Creek, CA. Mr. Lindsay focused his collection on specimens and objects acquired in or around Walnut Creek, Contra Costa County, CA. No associated funerary objects are present.

Aboriginal Land

The human remains and associated funerary objects in this notice were removed from unknown geographic locations, most likely near Walnut Creek, Contra Costa County, CA. This location is the aboriginal lands of one or more Indian Tribes. The following information was used to identify the aboriginal land: treaties.

Determinations

Pursuant to NAGPRA and its implementing regulations, and after consultation with the appropriate Indian Tribes, the Lindsay Wildlife Museum has determined that:

• The human remains described in this notice represent the physical remains of four individuals of Native American ancestry.

• No relationship of shared group identity can be reasonably traced between the human remains and any Indian Tribe.

• The human remains and associated funerary objects described in this notice were removed from the aboriginal land of the California Valley Miwok Tribe, California; Scotts Valley Band of Pomo Indians of California; and the Tule River Indian Tribe of the Tule River Reservation, California.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after May 17, 2023. If competing requests for disposition are received, Lindsay Wildlife Museum must determine the most appropriate requestor prior to disposition. Requests for joint disposition of the human remains are considered a single request and not competing requests. Lindsay Wildlife Museum is responsible for sending a copy of this notice to the Indian Tribes identified in this notice.

Authority: Native American Graves Protection and Repatriation Act, 25 U.S.C. 3003, and the implementing regulations, 43 CFR 10.9 and 10.11.

Dated: April 6, 2023.
Melanie O'Brien,
Manager, National NAGPRA Program.

[FR Doc. 2023-08058 Filed 4-14-23; 8:45 am]

BILLING CODE 4312-52-P